RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Applicant Background Survey.

(2) Form(s) submitted: EEO-44.

(3) OMB Number: 3220-NEW.

(4) Expiration date of current OMB clearance: None; new collection.

(5) Type of request: New collection.

(6) Respondents: Individuals or households.

(7) Estimated annual number of respondents: 800.

(8) Total annual responses: 800.

(9) Total annual reporting hours: 67.

(10) Collection description: To meet reporting requirements of Equal Employment Opportunity Commission (EEO) Management Directive 715, the RRB will collect information needed to properly assess the impact of its recruitment processes on the hiring of minorities, women, and people with disabilities.

Additional Information or Comments: Copies of the forms and supporting documents can be obtained by contacting Charles Mierzwa, the agency clearance officer, at (312) 751-3363 or Charles.Mierzwa@RRB.GOV.

Comments regarding the information collection should be addressed to Ronald J. Hodapp, Railroad Retirement Board, 844 North Rush Street, Chicago, Illinois 60611-2092 or Ronald.Hodapp@RRB.GOV and to the OMB Desk Officer for the RRB, at the Office of Management and Budget, Room 10230, New Executive Office Building, Washington, DC 20503.

Charles Mierzwa,
Clearance Officer.

[FR Doc. E6-62 Filed 1-6-06; 8:45 am]

BILLING CODE 7905-01-P